CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled Annual Grantee Progress Report to the Office of Management and Budget (OMB) for review and approval in accordance with the Paperwork Reduction Act of 1995, Public Law 104-13, (44 U.S.C. Chapter 35). Copies of this ICR, with applicable supporting documentation, may be obtained by calling the Corporation for National and Community Service, Ms. Amy Borgstrom at (202) 606-6930. Individuals who use a telecommunications device for the deaf (TTY-TDD) may call (202) 833-3722 between 8:30 a.m. and 5 p.m. eastern time, Monday through Friday.

ADDRESSES: Comments may be submitted, identified by the title of the information collection activity, to the Office of Information and Regulatory Affairs, Attn: Ms. Sharon Mar, OMB Desk Officer for the Corporation for National and Community Service, by any of the following two methods within 30 days from the date of publication in this Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments: A 60-day public comment Notice was published in the Federal Register on May 20, 2011. This comment period ended July 13, 2011. No public comments were received from this Notice.

Description: The Corporation seeks to renew the current information collection. The Corporation is seeking approval of the attached Annual Grantee Progress Report which will be used by grantees of the Corporation's AmeriCorps State and National in their annual reporting. The Annual Grantee Progress Report will provide information for Corporation staff to monitor grantee progress, and to respond to requests from Congress and other stakeholders. The information collection will otherwise be used in the same manner as the approved information collection. The Corporation also seeks to continue using the current application until the revised application is approved by OMB. The current application is due to expire on 7/31/2011.

Type of Review: New Information Collection.

Agency: Corporation for National and Community Service.

Title: Annual Grantee Progress Report.

OMB Number: 3045-0101.

Agency Number: None.

Affected Public: Grantees of AmeriCorps State and National programs.

Total Respondents: 154.

Frequency: Annually.

Average Time per Response: 8 hours.

Estimated Total Burden Hours: 1,232 hours.

Total Burden Cost (capital/startup): None.

Total Burden Cost (operating/maintenance): None.

Dated: July 22, 2011.
Jennifer Bastress Tahmasebi,
Deputy Director, AmeriCorps State and National.

[FR Doc. 2011-19059 Filed 7-27-11; 8:45 am]

BILLING CODE 6050-$$-P